DEPARTMENT OF ENERGY

Federal Energy Regulatory Commission

Notice of Filing

November 7, 2005.

In the matter of: ER97-4281-014, ER99-2161-005, ER99-3000-004, ER02-1572-002, ER02-1571-002, ER99-1115-008, ER99-1116-008, ER98-4515-004, ER00-2810-003, ER99-4359-002, ER99-4358-002, ER99-2168-005, ER98-1127-008, ER99-2162-005, ER00-2807-003, ER00-2809-003, ER98-1796-007, ER00-1259-004, ER99-4355-002, ER99-4356-002, ER01-1558-002, ER00-3160-004, ER99-4357-002, ER01-2969-003, ER00-2313-004, ER02-1395-002, ER03-955-004, ER02-2032-002, ER02-1396-002, ER02-1412-002, ER00-3718-003, ER99-3637-003, ER99-2157-005, ER99-1712-005, ER00-1250-002, and ER00-2808-003; NRG Power Marketing Inc., Arthur Kill Power LLC, Astoria Gas Turbines Power LLC, Bayou Cover Peaking Power LLC, Big Cajun I Peaking Power LLC, Cabrillo Power I LLC, Cabrillo Power II LLC, Cadillac Renewale Energy LLC, Conemaugh Power LLC, Connecticut Jet Power LLC, Devon Power LLC, Dunkirk Power LLC, El Segundo Power, LLC, Huntley Power LLC, Indian River Power LLC, Keystone Power LLC, Long Beach Generation LLC, Louisiana Generating LLC, Middletown Power LLC, Montville Power LLC, NEO California Power LLC, Neo Chester-Gen LLC, et al., Norwalk Power LLC, NRG Audrain Generating LLC, NRG Energy Center Paxton LLC, NRG Ilion Limited Partnership, NRG Marketing Services LLC, NRG New Jersey Energy Sales LLC, NRG Rockford LLC, NRG Rockford II LLC, NRG Sterlington Power LLC, Oswego Harbor Power LLC, Rocky Road Power LLC, Somerset Power LLC, Tacoma Energy Recovery Company, and Vienna Power LLC.

Take notice that on October 28, 2005, the direct and indirect subsidiaries of NRG Energy, Inc. (NRG) tendered for filing a joint notification of change in status with respect to the proposed acquisition by NRG of Texas Genco LLC, (Texas Genco) including the receipt by the owners of Texas Genco of certain amounts of NRG's common stock as part of the consideration for the transfer of in Texas Genco to NRG.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on November 18, 2005.

Magalie R. Salas,
Secretary.

[FR Doc. E5-6281 Filed 11-14-05; 8:45 am]

BILLING CODE 6717-01-P